FEDERAL COMMUNICATIONS COMMISSION

[DA 13-28 and DA 13-331]

Emergency Access Advisory Committee; Announcement of Charter Extension

AGENCY: Federal Communications Commission.

ACTION: Notice; correction.

SUMMARY: In this document, the Federal Communication Commission (FCC) is correcting a notice that appeared in the Federal Register of January 24, 2013. This document corrects the Emergency Access Advisory Committee (Committee or EAAC) Charter end date.

DATES: The EAAC charter is now effective until July 14, 2013.

FOR FURTHER INFORMATION CONTACT: Suzy Rosen Singleton, Consumer and Governmental Affairs Bureau, (202) 810-1503, or Suzanne.Singleton@fcc.gov (email); and/or Zenji Nakazawa, Public Safety and Homeland Security Bureau, (202) 418-7949, Zenji.Nakazawa@fcc.gov (email).

SUPPLEMENTARY INFORMATION: This document makes the following correction to the notice published January 24, 2013, at 78 FR 5178:

[Corrected]

1. On page 5178, in the third column, revise the DATES section to read as follows:

DATES: The EAAC charter is now effective until July 14, 2013.

Federal Communications Commission.
Karen Peltz Strauss,
Deputy Chief, Consumer and Governmental Affairs Bureau.

[FR Doc. 2013-06049 Filed 3-14-13; 8:45 am]

BILLING CODE 6712-01-P